COMMITTEE FOR PURCHASE FROM PEOPLE WHO ARE BLIND OR SEVERELY DISABLED

Suspension of Effective Date

In the document appearing on page 35223, FR Doc 05-3139, in the issue of June 17, 2005, in the first column, the Committee published an effective date of July 17, 2005, for deletion of the following products:

Cup, Disposable, NSN: 7350-00-914-5089—Cup, Disposable, NSN: 7350-00-761-7467—Cup, Disposable, NSN: 7350-00-914-5088—Cup, Disposable.

Cup, Disposable (Foam Plastic), NSN: 7350-00-721-9003—Cup, Disposable (Foam Plastic), 6 oz., NSN: 7350-00-145-6126—Cup, Disposable (Foam Plastic), 16 oz., NSN: 7350-00-926-1661—Cup, Disposable (Foam Plastic), 10 oz., NSN: 7350-00-082-5741—Cup, Disposable (Foam Plastic), 8 oz.

Lid, Plastic (Foam Cup), NSN: 7350-01-485-7092—Lid, Plastic (Foam Cup), 6 oz., NSN: 7350-01-485-7094—Lid, Plastic (Foam Cup), 8 oz., NSN: 7350-01-485-7093—Lid, Plastic (Foam Cup), 10 oz., NSN: 7350-01-485-7889—Lid, Plastic (Foam Cup), 16 oz.

This effective date is suspended until further notice.

G. John Heyer,
General Counsel.

[FR Doc. 05-13969 Filed 7-14-05; 8:45 am]

BILLING CODE 6353-01-P